FEDERAL MARITIME COMMISSION

Ocean Transportation Intermediary License Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. chapter 409 and 46 CFR 515). Notice is also hereby given of the filing of applications to amend an existing OTI license or the Qualifying Individual (QI) for a license.

Interested persons may contact the Office of Transportation Intermediaries, Federal Maritime Commission, Washington, DC 20573, by telephone at (202) 523-5843 or by email at OTI@fmc.gov.

Agunsa Logistics & Distribution (Los Angeles), Inc. (NVO & OFF), 19600 South Alameda Street, Rancho Dominguez, CA 90221, Officers: Eduardo Cabello, Vice President (Qualifying Individual), Rodrigo Jimenez, President, Application Type: QI Change.

American Global Logistics LLC dba AGL (NVO & OFF), 3399 Peachtree Road NE., #1130, Atlanta, GA 30326, Officers:Chad J. Rosenberg, President/CEO (Qualifying Individual), Otto J. Valdes, Vice President, Application Type: Trade Name Change.

Ark Shipping Line Limited Liability Company (NVO & OFF), 250 Lackland Drive, Suite 6, Middlesex, NJ 08846, Officer: Fawwad Mohammad, Chief Executive Manager (Qualifying Individual), Application Type: New NVO & OFF License.

Asencoex, LLC (NVO & OFF), 7788 NW 71st Street, Miami, FL 33166, Officers: Juan P. Constain, Managing Member (Qualifying Individual), Natalia I. Rondinel, Managing Member, Application Type: New NVO & OFF License.

Blue Axis Shipping & Freight Inc (NVO), 1109 Burnett Drive, Allen, TX 75002, Officer: Sinu Jacob, President/Secretary/Treasurer (Qualifying Individual), Application Type: New NVO License.

Blue Global Line, Inc. dba CFS Logistics (NVO), 455 E. State Parkway, #105, Schaumburg, IL 60173, Officers: Kook (A.K.A. Joseph) S. Lee, President/Treasurer/Secretary (Qualifying Individual), Eun J. Lim, Vice President, Application Type: New NVO License.

BM Forwarding Inc. (OFF), 1290 Maple View Drive, Pomona, CA 91766, Officer: Mei Zhu, President/CEO/Secretary/CFO (Qualifying Individual), Application Type: New OFF License.

Brilliant Group Logistics Corp. (NVO), 159 N. Central Avenue, Valley Stream, NY 11580, Officer: Shuping Wang, President/VP/Sec/Treasurer (Qualifying Individual), Application Type: New NVO License.

Concord Atlantic Inc. dba Concord Atlantic Shipping (NVO & OFF) 10095 Washington Blvd., North, #211 Laurel, MD 20723, Officer: Olufemi A. Asabi President, (Qualifying Individual), Application Type: New NVO & OFF License.

CTL Lax, Inc. (NVO), 10622 Tammy Street, Cypress, CA 90630, Officers: Jason Hsu, Director/Secretary/Treasurer/CFO (Qualifying Individual), Sin F. Chan, Director/President, Application Type: New NVO License.

Eagle Van Lines, Inc. (OFF), 5041 Beech Place, Temple Hills, MD 20748, Officers: George Georgakopoulos, President (Qualifying Individual), Marika Georgakopoulos, Secretary, Application Type: QI Change.

EZ Forwarding LLC (NVO & OFF), 3050 North 29th Court, Hollywood, FL 33020, Officer: Frances M. Simons, Vice President (Qualifying Individual), Application Type: Trade Name Change.

Fast Global Logistics, LLC (NVO & OFF), 3505 NW 113th Court, Miami, FL 33178, Officers: Rayani A. Vllias, Member/Manager/President (Qualifying Individual), Anderson Miera, Member/Manager/Vice President, Application Type: New NVO & OFF License.

ISS Marine Services, Inc. dba Inchcape Shipping Services (NVO & OFF), 11 N. Water Street, #9290, Mobile, AL 36602, Officers: Elaine T. Dearmond, Vice President (Qualifying Individual), Lar D. Westerberg, CEO, Application Type: Add NVO Service.

Jo-Sak Shipping USA, Inc. (NVO & OFF), 3100 Arapahoe Avenue, #104, Boulder, CO 80303, Officers: Pauline Yagjhiayan, President (Qualifying Individual), Duncan Alex, Chairman, Application Type: Name Change.

Quasar Logistics Inc. (NVO), 18460 Jamaica Avenue, Hollis, NY 11423, Officers: Rene G. Madrazo, Chief Logistics Officer (Qualifying Individual), Qaiser Choudri, President, Application Type: New NVO License.

Shipping Logistics, LLC (NVO & OFF), 3340-C Greens Road, #200, Houston, TX 77032, Officer: Mary K. Francis, Manager (Qualifying Individual), Application Type: Add NVO Service.

Tradelanes, Inc. (NVO & OFF), 61 Saint Joseph Street, Suite 1000, Mobile, AL 36602, Officers: Raymond K. Jones, Vice President (Qualifying Individual), Lloyd C. Garrison, President, Application Type: QI Change.

US Pacific Transportation Group, Inc. (NVO), 1290 Maple View Drive, Pomona, CA 91766, Officer: Mei Zhu, President/CEO/Secretary/CFO (Qualifying Individual), Application Type: New NVO License.

W8 Shipping LLC (NVO & OFF), 8 Aviation Court, Savannah, GA 31408, Officers: Darius Ziulpa, Member (Qualifying Individual), Gediminas Garmus, Member/Manager, Application Type: Add NVO Service.

Waterline International Logistics, Inc. (NVO & OFF), 24178 Alicia Parkway, Mission Viejo, CA 92691, Officer: Khalid E. Fahssi, Pres/CEO/Treas/CFO/Sec/VP (Qualifying Individual), Application Type: New NVO & OFF License.

Dated: May 25, 2012.
Rachel E. Dickon,
Assistant Secretary.

[FR Doc. 2012-13216 Filed 5-30-12; 8:45 am]

BILLING CODE 6730-01-P